DEPARTMENT OF TRANSPORTATION

Surface Transportation Board

[STB Finance Docket No. 34658]

Alaska Railroad Corporation—Petition for Exemption—To Construct and Operate a Rail Line Between North Pole, Alaska and Delta Junction, AK

AGENCY: Surface Transportation Board, DOT.

ACTION: Notice of Availability of Draft Environmental Impact Statement, Notice of Public Meetings.

SUMMARY: On July 6, 2007, Alaska Railroad Corporation (ARRC) filed a petition with the Surface Transportation Board (Board) pursuant to 49 United States Code (U.S.C.) 10502 for the authority to construct and operate approximately 80 miles of new rail line from North Pole, Alaska, to Delta Junction, Alaska. Because construction and operation of this proposed action has the potential to result in significant environmental impacts, the Board's Section of Environmental Analysis (SEA) and eight cooperating agencies prepared a Draft Environmental Impact Statement (Draft EIS). The cooperating agencies include the U.S. Bureau of Land Management, Alaska State Office; U.S. Army Corps of Engineers, Alaska District; U.S. Department of Defense, Alaskan Command; U.S. Air Force 354th Fighter Wing, Eielson Air Force Base; Federal Transit Administration; Federal Railroad Administration; U.S. Coast Guard, Seventeenth District; and Alaska Department of Natural Resources. The purpose of this Notice of Availability is to notify individuals and agencies interested in or affected by the proposed action of the availability of the Draft EIS for review and comment, and of public meetings on the Draft EIS.

Implementation of the proposed project would extend ARRC's existing freight and passenger rail service to the region south of the community of North Pole, and would include construction of related structures, such as a passenger facility, communications towers, and sidings.

The Draft EIS analyses the potential environmental impacts of the proposed action and alternatives, including the no-action alternative. The Draft EIS addresses environmental issues and concerns identified during the scoping process. It also contains SEA's preliminary recommendations for environmental mitigation measures, ARRC's voluntary mitigation measures, and encourages mutually acceptable negotiated agreements to mitigate adverse environmental impacts should the Board approve the proposed.

SEA and the cooperating agencies are also holding four public meetings on the Draft EIS during which interested parties can make oral comments in an orderly fashion before meeting participants and/or submit written comments. A court reporter will be present to record the oral comments. The dates, locations and times of the public meetings are shown below:

January 12, 2009, 5-8 p.m., Pike's Waterfront Lodge, 1850 Hoselton Road, Fairbanks, AK.

January 13, 2009, 5-8 p.m., City Council Chambers, 125 Snowman Lane, North Pole, AK.

January 14, 2009, 5-8 p.m., Salcha Senior Center, 6062 Johnson Road, Salcha, AK.

January 15, 2009, 5-8 p.m., Jarvis West Building, Milepost 1420.5 Alaska Highway, Delta Junction, AK.

The Alaska Department of Natural Resources will be attending the meetings to hear public comments on the proposed project pursuant to their obligations under Alaska statute 42.40.460.

SEA and the cooperating agencies will prepare a Final Environmental Impact Statement (Final EIS) that considers comments on the Draft EIS. The Board will then issue a final decision, based on all public and agency comments in the public record for this proceeding, that will address the transportation merits of the proposed project and the entire environmental record including the Draft EIS and Final EIS. That final decision will approve the proposed project, deny it, or approve it with mitigation conditions, including environmental conditions.

ADDRESSES: Comments should be sent in writing to: David Navecky, STB Finance Docket No. 34658, Surface Transportation Board, 395 E Street, SW., Washington, DC 20423. Comments on the Draft EIS may also be filed electronically on the Board's Web site, http://www.stb.dot.gov, by clicking on the “E-FILING” link. Then select “Environmental Comments,” which does not require a Login Account.

DATES: Written comments on the Draft EIS, which was served December 12, 2008, must be postmarked by February 2, 2009. E-filed comments must be received by February 2, 2009.

FOR FURTHER INFORMATION CONTACT: David Navecky by mail at the address above, by telephone at 202-245-0294 [FIRS for the hearing impaired (1-800-877-8339)], or by e-mail at naveckyd@stb.dot.gov. Further information about the project is also available by calling SEA's toll-free number at 1-800-359-5142.

Decided: December 12, 2008.
By the Board, Victoria Rutson, Chief, Section of Environmental Analysis.
Kulunie L. Cannon,
Clearance Clerk.

[FR Doc. E8-29448 Filed 12-11-08; 8:45 am]

BILLING CODE 4915-01-P